DEPARTMENT OF COMMERCE

Patent and Trademark Office

Public Search Facility User ID and Badging

ACTION: Proposed collection; comment request.

SUMMARY: The United States Patent and Trademark Office (USPTO), as required by the Paperwork Reduction Act of 1995, invites comments on a proposed extension of an existing information collection: 0651-0041 (Public Search Facility User ID and Badging).

DATES: Written comments must be submitted on or before March 30, 2018.

ADDRESSES: You may submit comments by any of the following methods:

• Email: InformationCollection@uspto.gov. Include “0651-0041 comment in the subject line of the message.

• Federal Rulemaking Portal: http://www.regulations.gov.

• Mail: Marcie Lovett, Records and Information Governance Division Director, Office of the Chief Technology Officer, United States Patent and Trademark Office, P.O. Box 1450, Alexandria, VA 22313-1450.

FOR FURTHER INFORMATION CONTACT: Requests for additional information should be directed to Terry Howard, Manager, Public Search Facility, United States Patent and Trademark Office, P.O. Box 1450, Alexandria, VA 22313-1450; by telephone at 571-272-3258; or by email to Terry.Howard@uspto.gov. Additional information about this collection is also available at http://www.reginfo.gov under “Information Collection Review.”

SUPPLEMENTARY INFORMATION:

I. Abstract

The United States Patent and Trademark Office (USPTO) is required by 35 U.S.C. 41(i)(1) to maintain a Public Search Facility to make publically accessible USPTO patent and trademark collections for search and retrieval. The facility is located in a publicly accessible portion of USPTO headquarters in Alexandria, Virginia, and offers access to the collection's paper and electronic files.Trained staff are available to assist users with searches. The USPTO also offers training courses to assist users with the advanced electronic search systems available at the facility.

This collection covers information that individuals submit in application to establish a USPTO online access account. This application allows users to obtain, renew, or replace online access account cards which provide access to the electronic search system at the Public Search Facility. The public may apply for an online access account only at the Public Search Facility reference desk by providing the completed application (including contact information) and proper identification. The access account cards include a bar-coded user number and an expiration date. Users may renew their account card in person by validating and updating the required information and may obtain a replacement for a lost account card by providing proper identification. Users who wish to register for the voluntary training courses by do so by completing the appropriate form.

This collection also covers information in applications to establish, renew, or replace security identification badges issued, under the authority provided in 41 CFR part 102-81, to members of the public who wish to access the Public Search Facility. Users may apply for a security badge in person at the USPTO Security Office by providing the completed application (including applicant and contact information) and presenting a valid form of identification with photograph. The security badges include a color photograph of the user and must be worn at all times while at the USPTO facilities.

II. Methods of Collection

The applications for online access accounts and security identification badges are completed on site and handed to a USPTO staff member for issuance. User training registration forms may be mailed, faxed, emailed, or hand delivered to the USPTO.

III. Data

OMB Number: 0651-0041.

IC Instruments and Forms: PTO-2030 and PTO-2224.

Type of Review: Extension of a Previously Existing Information Collection.

Affected Public: Individuals or households; businesses or other for-profits; and not-for-profit institutions.

Estimated Number of Respondents: 6,250 responses per year.

Estimated Time per Response: The USPTO estimates that it will take the public approximately 5 minutes (0.08 hours) to 10 minutes (0.17 hours) to complete the information in this collection, depending on the application. This includes the time to gather the necessary information, prepare the appropriate form, and submit the completed request to the USPTO.

Estimated Total Annual Respondent Burden Hours: 500 hours.

Estimated Total Annual Respondent Cost Burden: $145,750. The USPTO expects that both attorneys and paraprofessionals will complete the submissions. The USPTO estimates that one third of the applicants will be attorneys and the remaining two thirds will be paraprofessionals. The professional hourly rate for attorneys is $438 and the professional hourly rate for paraprofessionals is $145. The attorney rates is established by estimates in the 2017 Report on the Economic Survey, published by the Committee on Economics of Legal Practice of the American Intellectual Property Law Association. The paraprofessional rate is established by estimates in the 2016 National Utilization and Compensation Survey, published by the National Association of Legal Assistance (NALA). The estimated combined rate is $291.50. Using this hourly rate, the USTPO estimates that the total respondent cost burden for this collection is $145,750. per year.

IC # | Item | Time for response (hours) | Responses | Burden hours | Rate | Annual cost burden
|  | (a) | (b) | (c) = (a) × (b) | (d) | (e) = (c) × (d)
1 | Application for Public User ID (Access Card) | 0.08 (5 minutes) | 1,250 | 100 | $291.50 | $29,150.00
2 | Renew Online Access Card | 0.08 (5 minutes) | 500 | 40 | 291.50 | 11,600.00
3 | Replace Online Access Card | 0.08 (5 minutes) | 50 | 4 | 291.50 | 1,166.00
4 | User Training Registration Forms | 0.08 (5 minutes) | 150 | 12 | 291.50 | 3,498.00
5 | Security Identification Badges for Public Users | 0.08 (5 minutes) | 1,000 | 80 | 291.50 | 23,320.00
6 | Renew Security Identification Badges for Public Users | 0.08 (5 minutes) | 3,200 | 256 | 291.50 | 74,624.00
7 | Replace Security Identification Badges | 0.08 (5 minutes) | 100 | 8 | 291.50 | 2,332.00
Totals |  |  | 6,250 | 500 |  | 145,750.00

Estimated Total Annual Non-hour Respondent Cost Burden: $1,501.96. This collection has annual (non-hour) costs in the form of fees and postage costs.

There are no application or renewal fees for online access cards or security identification badges. However, there is a $15 fee for issuing a replacement security identification badge. The USPTO estimates that it will reissue approximately 100 security badges annually that have been lost, stolen, or need to be replaced, for a total of $1,500.00 per year in replacement fees.

Users may incur postage costs when submitting a user training registration form to the USPTO by mail. The USPTO expects that approximately 4 training forms received per year will be submitted by mail. The USPTO estimates that the average first-class postage cost for a mailed training form will be $0.49 for a total postage cost of $1.96 per year for this collection.

The total annual (non-hour) respondent cost burden for this collection in the forms of fees and postage costs is estimated to be $1,501.96 per year.

IV. Request for Comments

Comments submitted in response to this notice will be summarized or included in the request for OMB approval of this information collection; they also will become a matter of public record.

Comments are invited on:

(a) Whether the proposed collection of information is necessary for the proper performance of the functions of the agency, including whether the information shall have practical utility;

(b) The accuracy of the agency's estimate of the burden (including hours and cost) of the proposed collection of information;

(c) Ways to enhance the quality, utility, and clarity of the information to be collected; and

(d) Ways to minimize the burden of the collection of information on respondents, e.g., the use of automated collection techniques or other forms of information technology.

Marcie Lovett,
Records and Information Governance Division Director, OCTO United States Patent and Trademark Office.

[FR Doc. 2018-01610 Filed 1-26-18; 8:45 am]

BILLING CODE 3510-16-P